FEDERAL MINE SAFETY AND HEALTH REVIEW COMMISSION

Sunshine Act Notice

November 2, 2012.

TIME AND DATE: 10:00 a.m., Friday, November 16, 2012.

PLACE: The Richard V. Backley Hearing Room, Room 511N, 1331 Pennsylvania Avenue NW., Washington, DC 20004 (entry from F Street entrance).

STATUS: Open.

MATTERS TO BE CONSIDERED: The Commission will hear oral argument in the matter Secretary of Labor v. Wolf Run Mining Co., Docket No. WEVA 2008-1265. (Issues include whether the Administrative Law Judge correctly construed the “repeated failure” language of section 110(b)(2) of the Mine Act.)

Any person attending this oral argument who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2012-27325 Filed 11-5-12; 4:15 pm]

BILLING CODE P